DEPARTMENT OF COMMERCE

National Oceanic and Atmospheric Administration

[I.D. 062701C]

Endangered and Threatened Species; Take of Anadromous Fish

AGENCY: National Marine Fisheries Service (NMFS), National Oceanic and Atmospheric Administration (NOAA), Commerce.

ACTION: Receipt of applications for scientific research permits.

SUMMARY: NMFS has received applications for Endangered Species Act (ESA) scientific research permits from: Bureau of Land Management (BLM) in Eugene, OR; Cascade General, Inc. (CGI) in Portland, OR; Western Washington University (WWU) in Bellingham, WA; Lower Willamette Group (LWG) in Portland, OR; Northwest Fisheries Science Center (NWFSC), NMFS in Seattle, WA; Weyerhaeuser in Federal Way, WA; King County Department of Transportation (KCDOT) in King County, WA; City of Bellingham, WA; Oregon State University (OSU) in Corvallis, OR; Oregon Metallurgical Corporation (OREMET) in Portland, OR; United States Forest Service (USFS) in Corvallis, OR; Port Blakely Tree Farms (PBF) in Tenino, WA; and United States Fish and Wildlife Service (USFWS) in Vancouver, WA.

DATES: Comments or requests for a public hearing on any of the new applications or the modification request must be received no later than 5 p.m. Pacific daylight time on August 20, 2001.

ADDRESSES: Written comments on the applications should be sent to Protected Resources Division (PRD), F/NWO3, 525 NE Oregon Street, Suite 500, Portland, OR 97232-2737 (503/230-5400). Comments may also be sent via fax to 503/230-5435. The documents are also available on the Internet at http://www.nwr.noaa.gov/. Comments will not be accepted if submitted via e-mail or the Internet.

FOR FURTHER INFORMATION CONTACT: Cherelle Blazer, Portland, OR, phone: 503/231-2001, fax: 503/230-5435, e-mail: Cherelle.Blazer@noaa.gov.

SUPPLEMENTARY INFORMATION: The following ESA-listed evolutionary significant units (ESUs) are covered in this notice:

Chinook salmon (Oncorhynchus tshawytscha): Threatened Snake River (SR) fall-run, Threatened SR spring/summer-run, Endangered Upper Columbia River (UCR), Threatened Upper Willamette River (UWR), Threatened Lower Columbia River (LCR), Threatened Puget Sound (PS)

Steelhead (O. mykiss): Threatened Snake River Basin (SRB), Endangered UCR, Threatened Middle Columbia River (MCR), Threatened LCR, Threatened UWR

Chum salmon (O. keta): Threatened Columbia River (CR)

Sockeye salmon (O. nerka): Endangered SR

New Applications Received

BLM is seeking a 5-year permit (1256) to take adult and juvenile UWR chinook salmon and OC coho salmon in Wolf Creek, Siuslaw River, Esmond Creek Basin, North Creek, Pugh Creek, Bierce Creek, Siuslaw River mainstem, and Upper Lake Creek in OR. The purposes of the study are to: (1) collect data on fish abundance and presence, adult escapement, and habitat needs prior to stream enhancement; (2) evaluate habitat restoration projects, migration time, non-salmon species presence and smoltification size; and (3) perform watershed analysis. The study will benefit UWR chinook salmon and OC coho salmon by determining changes in fish habitat due to management projects as compared to natural fluctuation. BLM proposes to observe fish by snorkeling during habitat and spawning surveys, and capture (using backpack electrofishing, seining, dipnetting, and rotary trapping), handle, and release juvenile and adult salmonids. Some fish will be marked with a subcutaneous injection of colored dye using Panjet needles. BLM also requests juvenile fish indirect mortality associated with the study.

CGI is seeking a 3-year permit (1326) to take adult and juvenile UWR chinook salmon, LCR chinook salmon, UWR steelhead, and LCR steelhead associated with scientific research to be conducted at Swan Island in the Portland Harbor located in the lower Willamette River. The purpose of this study is to test a freshwater air screen for use in preventing or minimizing fish entry onto a floating dry dock facility. The research will benefit listed species by determining their presence and testing new methods of moving fish away from dry dock areas during operations thus providing useful information for protecting listed species at dry dock facilities. CGI proposes to capture (using boat electrofishing and intake porthole nets), anesthetize, identify, measure, check for marks, weigh, and release juvenile salmonids. Adult fish that may be encountered will not be netted. CGI also requests juvenile fish indirect mortality associated with the study.

WWU is seeking a 5-year permit (1327) to take adult and juvenile UWR chinook salmon and UWR steelhead on the Willamette and McKenzie Rivers. The purpose of this study is to identify and rank sources of stress in the watershed, create a valid process for differentiation between anthropogenic and natural impacts on streams used as receiving waters associated with pulp and paper mill operation, and make an ecological risk assessment specifically aimed at point-non-point source pollution in the Upper Willamette-Lower McKenzie watershed. The study will benefit UWR chinook salmon and UWR steelhead recovery through ecological assessment and stressor identification in the watershed. WWU proposes to capture (using boat electrofishing), identify, and release juvenile fish. No attempt will be made to net or capture adult listed fish. WWU also requests juvenile fish indirect mortality associated with the study.

LWG is seeking a 4-year permit (1328) to take adult and juvenile UWR chinook salmon, LCR chinook salmon, UWR steelhead, and LCR steelhead during scientific research efforts on the Lower Willamette River. The purpose of the study is to investigate juvenile salmon residence time and distribution and use the data to determine potential exposure of listed fish to contaminated sediment associated with an EPA superfund project. The study will benefit threatened species in the Portland harbor by generating population distribution information that can be used to design a remediation program to minimize sediment impacts, and aid management of future development and conservation of valuable fish habitat. LWG proposes to capture (using boat electrofishing), handle, anesthetize, measure, check for marks and tags, and release juvenile salmonids. Adult fish that may be encountered will not be netted. LWG also requests juvenile fish indirect mortality associated with the study.

NWFSC is seeking a 5-year permit (1329) to take juvenile SR fall-run chinook salmon, SR spring/summer-run chinook salmon, UCR chinook salmon, UWR chinook salmon, LCR chinook salmon, SRB steelhead, UCR steelhead, MCR steelhead, UWR steelhead, LCR steelhead, CR chum salmon, and SR sockeye salmon in the Lower Columbia River estuary. The purpose of the study is to determine the presence and abundance of fall and spring chinook salmon, coho salmon, and chum salmon in the estuary and Lower Columbia River; determine the relationship between juvenile salmon and Lower Columbia River estuarine habitat; and obtain information about flow change, sediment input, and habitat availability for the development of a numerical model. The study will benefit listed salmonids by serving as the basis for estuarine restoration and preservation plans for endangered salmonid stocks. The NWFSC proposes to place beach seines at eight sampling sites near the Astoria Bridge and trapnets in four sites in Cathlamet Bay. NWFSC proposes to capture, anesthetize, scan for tags, measure, weigh, and release juvenile salmonids. Monthly up to ten fish of each species at each of the twelve sampling sites are proposed to be sacrificed for stomach content, scale, and otolith analysis.

Weyerhaeuser is seeking a 5-year permit (1330) to take juvenile LCR steelhead in Harrington Creek in the Toutle River Basin, WA. The purpose of the study is to increase understanding of the relationship between aquatic organisms and their habitat, determine how forest management and restoration influence the aquatic ecosystem, and produce reliable scientific data for the development of effective forest management practices that better protect aquatic resources. This research will benefit listed salmonids through data on the natural habitat recovery process and by identification of the consequences of various stressors to listed species. Weyerhaeuser proposes to observe fish during snorkeling surveys, capture (using backpack electrofishing), anesthetize, identify, measure, weigh, and release fish for data collection including water typing and population surveys. Weyerhaeuser also requests indirect mortality associated with this activity.

KCDOT is seeking a 5-year permit (1331) to take juvenile PS chinook salmon associated with road maintenance activities to be conducted in multiple river basins in WA. KCDOT proposes to temporary exclude aquatic life from maintenance/construction areas in addition to evaluating the effectiveness of stream, culvert replacement, wetlands, and riparian habitat projects. Maintenance activities are to replace or upgrade stream crossing to allow fish passage. The activities will benefit PS chinook salmon by providing and improving access into previously inaccessible stream reaches for all life stages. The road maintenance activities may also include habitat improvements such as riparian plantings and in-stream habitat structures. KCDOT proposes to capture (using backpack electrofishing, seines, fry traps, and dipnets), handle, and release juvenile PS chinook salmon. KCDOT also requests indirect mortality associated with the study.

The City of Bellingham is seeking a 3-year permit (1332) to take juvenile PS chinook salmon associated with scientific research to be conducted in the Nooksack River Basin of Whatcom County, WA. The purpose of the study is to gather information to prepare a Habitat Conservation Plan (HCP) addressing their diversion activities in the Nooksack River Basin. The proposed study will provide three types of information to help determine how flow volumes in the river affect the availability of habitat used by listed salmonids: (1) Fish distribution in the project area; (2) periodicity of fish occurrence in the project area; and (3) habitat use in the project area. The research will benefit PS chinook salmon by providing scientifically-sound, site-specific data that will enable the City of Bellingham to develop an HCP addressing water withdrawal operations and habitat conservation measures that will minimize or avoid incidental take of listed species. The City of Bellingham proposes to capture (using beach seines and fyke nets), handle, and release juvenile PS chinook salmon. The City of Bellingham also requests indirect mortality associated with the study.

OSU is seeking a 3-year permit (1333) to take adult and juvenile UWR chinook salmon, LCR chinook salmon, UWR steelhead, and LCR steelhead in the Willamette River, McKenzie River, and the Columbia River. The purpose of the study is to evaluate floodplain and riparian restoration, test the effectiveness of new assessment tools for conservation planning, and improve aquatic habitat. The study will benefit listed salmonids by helping to determine the actions needed to restore of ecological processes in salmon and steelhead habitat. OSU proposes to capture (using boat electrofishing), identify, measure, examine for abnormalities, and release juvenile fish. Adult fish that may be encountered will not be netted. OSU also requests juvenile fish indirect mortality associated with the study.

OREMET is seeking a 3-year permit (1334) to take juvenile UWR chinook salmon and UWR steelhead in the Calapooia River and Oak Creek tributaries to the Willamette River. The purpose of the study is to evaluate stream health and occurrence of juvenile listed salmonids in areas downstream from a titanium plant and to determine the effectiveness of wastewater treatment. The benefit of the study on listed salmonids is the continued treatment of effluent which provides a consistent perennial flow of water in Oak Creek. OREMET proposes to use backpack electrofishing to capture fish which will then be measured, identified, and released.

USFS is seeking a 5-year permit (1335) to take adult and juvenile CR chum salmon in three tributaries of the Columbia River in Washington state. The purpose of the study is to assess watershed conditions and limiting factors, and determine watershed health under the Northwest Forest Plan. The activities will benefit listed fish by providing the USFS with information to improve forest management. USFS proposes to capture (using backpack electrofishing), anesthetize, measure, and release fish. USFS also requests juvenile fish indirect mortality associated with the research.

PBF is seeking a 2-year permit (1336) to take juvenile UWR chinook salmon, UWR steelhead, LCR chinook salmon, LCR steelhead, and OC coho salmon in various lakes, rivers, and creeks in the Willamette and Columbia River systems and Oregon coastal drainages. The purpose of the study is to evaluate factors limiting fish distribution in streams owned by PBF and to determine water quality. Data collected will benefit listed fish by being used to conserve and restore critical habitat. PBF proposes to capture (using backpack electrofishing and dipnetting), handle, and release juvenile fish.

OSU is seeking a 2-year permit (1337) to take adult and juvenile UWR chinook salmon and UWR steelhead in Rickreall Creek, OR. The purpose of the study is to assess the seasonal composition and distribution of fishes and determine associations of all life stages of fish with available habitat, level of disturbance, and hydrological patterns. The study will benefit listed salmonids by generating data that will aid in improved creek management. OSU proposes to capture (using dipnetting, beach seining, fyke and hoop netting, backpack electrofishing, angling, and trammel netting), handle, and release adult and juvenile fish. OSU also requests juvenile fish indirect mortality associated with the research.

USFWS is seeking a 5-year permit (1338) to take adult and juvenile LCR chinook salmon, LCR steelhead, and CR chum salmon in Hardy Springs, Hamilton Springs, and the mainstem Columbia River. The purposes of the study are to: (1) examine factors limiting chum salmon production, (2) enhance and restore chum salmon production, (3) evaluate nearby tributaries for restoration, and (4) evaluate the relationship between mainstem Columbia River and tributary chum salmon populations. The study will benefit listed chum salmon by providing information on their freshwater life history that can be used in Columbia River water management and recovery planning. Adult listed fish are proposed to be captured (by seine, weir, or tangle net), anesthetized, bio-sampled, marked with a jaw tag or opercle punch, radio tagged, and released. Juvenile listed fish are proposed to be captured (by fyke net, weir, or screw trap), marked using a photonic dye injector or Bismark Brown Y, and released. USFWS also requests adult and juvenile fish indirect mortality associated with the study.

Dated: July 16, 2001.
Phil Williams,
Acting Chief, Endangered Species Division, Office of Protected Resources, National Marine Fisheries Service.

[FR Doc. 01-18205 Filed 7-19-01; 8:45 am]

BILLING CODE 3510-22-S